DEPARTMENT OF HEALTH AND HUMAN SERVICES

Center for Disease Control and Prevention

[Program Announcement 02193]

Centers of Excellence in Health Statistics; Notice of Availability of Funds

A. Purpose

The Centers for Disease Control and Prevention (CDC), through the Office of Public Health Practice Program Office “PHPPO” and the National Center for Health Statistics (NCHS) announce the availability of fiscal year (FY) 2002 funds for a cooperative agreement to support Centers of Excellence in Health Statistics (CEHS). This program addresses the “Healthy People 2010” focus area(s) of Disability and Secondary Conditions; Environmental Health; Maternal, Infant, and Child Health; Public Health Infrastructure; Cancer; Heart Disease and Stroke; Tobacco Use.

The purpose of this program is to: Support Infrastructure (Administrative Core): Enhance the organizational setting to promote research on methods for health statistics, drawing upon multiple disciplines and involving collaboration with multiple partners.

Support Research Projects (Research Component): Support methodology and analytic research projects aimed at advancing the state of the art of collection, analysis, and interpretation of health statistics. Integrate the fields of statistics, health services research, survey research, public health, epidemiology, behavioral and social sciences, computer science and technology among others. Through such multi-disciplinary research, explore new approaches to enhance the capability of the statistical system to meet the rapidly changing needs of disease surveillance, public health research, and prevention research.

Measurable outcomes of the program will be in alignment with one or more of the following performance goals for the National Center for Health Statistics:

1. Monitor trends in the nation's health through high-quality data systems; addressing issues relevant to decision makers.

2. Improve the nation's vital statistics system.

3. Improve racial and ethnic data for programmatic and policy decision-making.

4. Disseminate health data in innovative ways.

B. Authority and Catalog of Federal Domestic Assistance Number

This program is authorized under section 306 of the Public Health Service Act, [42 U.S.C. section 242k] as amended. The Catalog of Federal Domestic Assistance number is 99.283.

C. Eligible Applicants

Applications may be submitted by public and private nonprofit organizations and by governments and their agencies; that is, universities, colleges, technical schools, research institutions, hospitals, other public and private nonprofit organizations, community-based organizations, faith-based organizations, State and local governments or their bona fide agents, including the District of Columbia, the Commonwealth of Puerto Rico, the Virgin Islands, the Commonwealth of the Northern Mariana Islands, American Samoa, Guam, the Federated States of Micronesia, the Republic of the Marshall Islands, the Republic of Palau, federally recognized Indian tribal governments, Indian tribes, or Indian tribal organizations.

Note: Title II of the United States Code section 1611 states that an organization described in section 501(c)(4) of the Internal Revenue Code that engages in lobbying activities is not eligible to receive Federal funds constituting an award, grant or loan.

D. Availability of Funds

Approximately $1,200,000 is available in FY 2002 to fund approximately three awards. It is expected that the average award will be $400,000 in total costs, ranging from $350,000 to $450,000. It is anticipated that the awards will begin on or about September 30, 2002, and will be made for a 12-month budget period. Funding estimates may change. Project period for one year.

Continuation awards within an approved project period will be made on the basis of satisfactory progress as evidenced by required reports and the availability of funds.

Use of Funds

Applicants should include sufficient travel funds within their budgets to travel to the NCHS, Hyattsville Maryland, facility for an annual meeting of all awarded research center principal investigators.

Funding Preferences

There is programmatic interest in supporting Centers that conduct a wide range of research, analytic, and implementation activities pertaining to health statistics and information systems for health promotion and disease prevention research and application. Examples of relevant research topics include, but are not limited to, those listed below:

1. Survey methodology: New sampling approaches, new designs for hard-to-reach populations, new approaches for linking and integrating health surveys, improved capabilities for conducting longitudinal and cross-sectional studies, improved methods for addressing language and cognitive issues in conducting surveys.

2. Health Promotion and Disease Prevention: Development of standards in terms, definitions, and methods; development of health status indicators for within-population group comparison; examination of protective or wellness factors and health seeking behaviors particular to population groups; assessment of limitations of and alternatives to randomized designs for community intervention trials.

3. Data linkages: Improved use of existing administrative data sets (e.g., Medicare, Medicaid, Veterans Administration, National Death Index, hospital discharges, and employer health files), expanded use of data sources from outside the public health arena, approaches to tracking patient health episodes across different providers, and methods for linking or matching different data sources to move toward population coverage.

4. Data analysis: Analytic approaches to interpreting poverty and socioeconomic status and their effect on population subgroups, analytic approaches to assessing the impact of managed care on health as well as impact of other changes in health care systems, and enhancement of epidemiological studies of disease and illness including the impact of behavior and environmental exposures, improved strategies for combining qualitative data to enhance insight into statistical research, examination of demographic aspects of health morbidity, disability, and mortality, including issues related to the influence of early life on later life, algorithms for measuring health outcomes and quality of care, and validation of aggregated variables.

5. Information technology: Expanded research and development of automation technologies, including the development of new electronic methods for data collection, improved analytic tools, and new approaches to electronic data dissemination.

6. Special populations: Improved data on populations particularly vulnerable to change in the health care system and those with unique health problems (racial/ethnic minorities, poor, disabled, elderly, highly mobile populations); of particular interest is the reliability of race and ethnic information on vital and medical records (self-report versus proxy) with a focus on mortality statistics and misreporting.

7. Medical informatics: Approaches to defining, accessing, and using computerized patient records, the development of uniform data elements and definitions, developing methods for greater linkage between medical informatics and population-based health information, developing standardized instruments for recording utilization (especially preventive services) for illness episodes that can be used by primary care service providers in a variety of settings.

8. Measurement: Improved techniques for describing and measuring health status, functional status, health outcomes, and the impact of care and the environment, behavior, family, and community on health status.

9. Non-sampling error: Examination of biases associated with the sampling frame, mode of survey, non-response, and measurement bias.

10. Confidentiality and data sharing: Development of innovative methods and techniques to ensure the confidentiality of information provided by respondents, while at the same time maximizing the sharing of micro-data for analysis, e.g., employing random transformations and imputed synthetic variables and evaluating the resulting analytic losses; development and evaluation of alternative approaches to obtain informed consent.

E. Program Requirements

In conducting activities to achieve the purpose of this program, the recipient will be responsible for the activities under 1. Recipient Activities, and CDC will be responsible for the activities listed under 2. CDC Activities.

1. Recipient Activities

a. Support Infrastructure (Administrative Core)

(1) Maintain an appropriate organizational setting and institutional infrastructure (administrative core) that sustains a set of research projects. This setting must facilitate collaboration between multiple disciplines and involve multiple partners.

(2) Establish relationship(s) with organizations relevant to the success of the Center's research agenda, demonstrated by letters of agreement.

b. Research Component

(1) Develop and organize a prevention/promotion research theme (or set of themes) and a research agenda. For example, themes and research agendas can address Programmatic Interest research topics outlined in that section of the announcement or can be focused on problems unique to the community in which the CEHS would be located.

(2) Design and conduct one or more research projects within the research agenda developed by the particular CEHS that involves specialists or experts in sophisticated methodology and individuals or organizations from the community, if appropriate, to identify priorities and link research activities to important public health, prevention, and health statistics research issues.

(3) Develop and implement a plan to disseminate research findings as widely as is practicable.

2. CDC Activities

a. Provide technical assistance on projects as necessary.

b. Assist in the development of a controlled access environment that allows micro-data applications.

c. Assist in the development of a research protocol for Institutional Review Board (IRB) review by all cooperating institutions participating in the research. The CDC (IRB) will review and approve the protocol initially and on at least an annual basis until the research project is completed.

F. Content

Applications

The program announcement title and number must appear in the application. Use the information in the Program Requirements, Other Requirements, and Evaluation Criteria sections to develop the application content. Your application will be evaluated on the criteria listed, so it is important to follow them in laying out your program plan. The narrative should be no more than 25 pages, single-spaced, printed on one side, with one-inch margins and unreduced fonts.

The narrative should consist of, at a minimum, a Plan, Objectives, Methods, Evaluation and Budget

G. Submission and Deadline

Applications

Submit the original and two copies of PHS 398 (OMB Number 0925-0001). Forms are available at the following Internet address: http://www.cdc.gov/od/pgo/forminfo.htm. Forms may also be obtained by contacting the Grants Management Specialist identified in the “Where to obtain Additional Information” section of this announcement.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable)

Narrative

Applications must be received before 5 p.m. Eastern Time August 5, 2002, submit the application to the: Technical Information Management Section, 2920 Brandywine Road, Suite 3000, Atlanta, Georgia 30341.

Deadline: Applications shall be considered as meeting the deadline if they are received before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications that do not meet the above criteria will not be eligible for competition and will be discarded. Applicants will be notified of their failure to meet the submission requirements.

H. Evaluation Criteria

Application

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. The Measures of Effectiveness shall be submitted with the application and shall be an element of evaluation.

A Special Emphasis Panel (SEP) appointed by CDC will evaluate each application individually against the following criteria's:

1. Infrastructure (Administrative Core)

a. Organizational Infrastructure: Does the structure lead to the development of a body of knowledge that can yield results beyond that accomplished with individual projects alone? Does the CEHS include established investigators and develop genuine collaborations among investigators with diverse backgrounds and areas of expertise?

b. Environment: Does the scientific, technical, and administrative environment of the center contribute to excellence and the probability of success? Does the center take advantage of unique features of the scientific and public health environments or employ useful collaborative arrangements? Is there evidence of a high level of institutional commitment and support? Does the Center Director (Principal Investigator) have specific authority and responsibility to carry out the project? Is the Center Director located organizationally at a level to garner the support needed for the center (i.e., report to an appropriate institutional official, e.g., dean of a school, vice president of a university, or commissioner of health)? Is the time and effort indicated for the Center Director adequate (minimum of 25 percent effort devoted solely to this project with an anticipated range of 25 to 50 percent)?

c. Organization: The quality and appropriateness of the organizational structure, the quality and experience of the administrative staff, and the quality of the plans for the allocating and monitoring of resources.

d. Budget: Reasonableness of proposed budget and time frame for the project in relation to the work proposed.

e. Measures of Effectiveness: What measures will be used to compare outputs to the performance goal (or goals) as stated in section “A. Purpose” of this announcement? Measures must be objective and quantitative and must measure the intended outcome.

2. Research Component

a. Research Theme: Is the concept of a center fulfilled, i.e., is there an organizing prevention/promotion research theme (or set of themes) and a research agenda that defines the mission of the particular CEHS?

b. Public Health Significance: Does the center address an important public health problem? If the aims of the application are achieved, how will the field or health statistics and prevention research benefit? What will be the effect of the center and its affiliated studies on fundamental advances in the development, testing, and dissemination of health statistics and prevention research and on informing public health policy?

c. Leadership: Are the center director and other senior investigators at the forefront of their respective fields? Do they have the experience and authority to organize, administer and direct the center?

d. Research projects: Are the specific research projects of exceptional scientific merit?

e. Innovation: Does the Center propose to develop novel concepts, approaches, measures or methods in basic research that will inform and guide health promotion and disease prevention? Are the aims original and innovative? Do the projects extend existing approaches or develop new methodologies or technologies?

f. Study Populations: The degree to which the applicant has met the CDC Policy requirements regarding the inclusion of women, ethnic, and racial groups in the proposed research. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

g. Human Subjects: When applicable, the adequacy of the proposed means for protecting human subjects. Does the application adequately address the requirements of Title 45 CFR 46 for the protection of human subjects? (Not scored; however, an application can be disapproved if the research risks are sufficiently serious and protection against risks is so inadequate as to make the entire application unacceptable.)

h. Budget: Reasonableness of proposed budget.

I. Other Requirements

Technical Reporting Requirements

Provide CDC with original plus two copies of

1. Annual progress reports (The progress reports will include a data requirement that demonstrates measures of effectiveness.)

2. Financial status report, no more than 90 days after the end of the budget period.

3. Final financial and performance reports, no more than 90 days after the end of the project period.

4. Applicants are required to provide Measures of Effectiveness that will demonstrate the accomplishment of the various identified objectives of the grant or cooperative agreement.

Send all reports to the Grants Management Specialist identified in the “Where to Obtain Additional Information” section of this announcement.

The following additional requirements are applicable to this program. For a complete description of each, see attachment I of the application kit.

AR-1 Human Subjects Requirements

AR-2 Requirements for Inclusion of Women and Racial Ethnic Minorities in Research

AR-9 Paperwork Reduction Act Requirements

AR-10 Smoke-Free Workplace Requirements

AR-11 Healthy People 2010

AR-12 Lobbying Restrictions

J. Where To Obtain Additional Information

This and other CDC announcements, the necessary applications, and associated forms can be found on the CDC home page Internet address— http://www.cdc.gov. Click on “Funding” then “Grants and Cooperative Agreements.”

For business management technical assistance, contact:Merlin Williams, Grants Management Specialist, Procurement and Grants Office,Centers for Disease Control and Prevention,2920 Brandywine Road, Room 3000,tlanta, GA 30341-4146,Telephone number: 770-488-2765,Email address: mqw6@cdc.gov.

For programmatic technical assistance, contact:Jennifer Madans, Ph.D., National Center for Health Statistics, 6525 Belcrest Road, Room 1140,Hyattsville, MD 20782,Telephone Number: 301-458-4500,Email address: jhm4@cdc.gov.

Dewey LaRochelle, MPA, National Center for Health Statistics, 6525 Belcrest Road, Room 1140,Hyattsville, MD 20782,Telephone Number: 301-458-4607,Email address: dhl1@cdc.gov.

Dated: June 21, 2002.
Sandra R. Manning,
CGFM, Director, Procurement and Grants Office, Centers for Disease Control and Prevention.

[FR Doc. 02-16226 Filed 6-28-02; 8:45 am]

BILLING CODE 4163-18-P